DEPARTMENT OF DEFENSE

Office of the Secretary

[No. DoD-2006-HAM-0016]

Proposed Collection; Comment Request

AGENCY: Office of the Assistant Secretary of Defense for Health Affairs, DoD.

ACTION: Notice.

In accordance with Section 3506(c)(2)(A) of the Paperwork Reduction Act of 1995, the Office of the Assistant Secretary of Defense for Health Affairs announces the proposed revision of a public information collection and seeks public comment on the provisions thereof. Comments are invited on: (a) Whether the proposed collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received April 24, 2006.

ADDRESSES: You may submit comments, identified by docket number and/or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://regulations.gov as they are received without change, including any personal identifiers or contact information.

For Further Information Contact: To request information on this proposed information collection or to obtain a copy of the proposal and associated collection instruments, please write to the Office of the Assistant Secretary of Defense for Health Affairs, TMA, HPA&E, Attn: Richard R. Bannick, Ph.D., 5111 Leesburg Pike, Suite 810, Falls Church, Virginia 22041-3206.

Title and OMB Number: Viability of TRICARE Standard Survey; OMB Control Number 0720-0031.

Needs and Uses: As mandated by Congress, confidential surveys of civilian physicians will be completed in TRICARE market areas within the United States to determine how many accept new TRICARE Standard patients in each market area. At least 20 TRICARE market areas in the United States will be conducted each fiscal year until all TRICARE market areas in the United States have been surveyed.

Affected Public: Individuals and households.

Annual Burden Hours: 3,333.

Number of Respondents: 40,000.

Responses per Respondent: 1.

Average Burden per Response: 5 minutes.

Frequency: On occasion.

SUPPLEMENTARY INFORMATION:

Summary of Information Collection

The Health Program Analysis and Evaluation Directorate (HPA&E) under the authority of the Office of the Assistant Secretary of Defense (Health Affairs)/TRICARE Management Activity will undertake an evaluation of the DoD's TRICARE Standard healthcare option. HPA&E will collect and analyze data that are necessary to meet the requirements outlined in Section 723 of the National Defense Authorization Act for FY2004.

Activities include the collection and analyses of data obtained confidentially from civilian physicians (M.D.s & D.O.s) within U.S. TRICARE market areas. Specifically, Mail surveys with telephone follow-up of civilian providers will be conducted in the TRICARE market areas to determine how many healthcare providers are accepting new patients under TRICARE Standard in each market area. The surveys will be conducted in at least 20 TRICARE market areas in the United States each fiscal year until all market areas in the United States have been surveyed. In prioritizing the order in which these market areas will be surveyed, representatives of TRICARE beneficiaries will be consulted in identifying locations that have evidence of access-to-care problems under TRICARE Standard. Information will be collected by mail or telephonically to determine the number of healthcare providers that currently accept new Medicare patients or accept new MHS beneficiaries as patients under TRICARE Standard in each market area. Analyses will support all legislative requirements.

Dated: February 10, 2006.
Patricia L. Toppings,
Alternate OSD Federal Register Liaison Officer, Department of Defense.

[FR Doc. 06-1603 Filed 2-21-06; 8:45 am]

BILLING CODE 5001-06-M